DEPARTMENT OF THE INTERIOR

Bureau of Ocean Energy Management

[Docket No. BOEM-2024-0030]

Notice of Availability of a Draft Environmental Assessment for Commercial Wind Lease Issuance, Site Characterization Activities, and Site Assessment Activities on the Atlantic Outer Continental Shelf in the Gulf of Maine offshore the States of Maine and New Hampshire and the Commonwealth of Massachusetts

AGENCY: Bureau of Ocean Energy Management, Interior.

ACTION: Notice of availability and request for comments.

SUMMARY: The Bureau of Ocean Energy Management (BOEM) announces the availability of the draft environmental assessment (EA) for the potential issuance of commercial wind energy leases in the Gulf of Maine offshore the States of Maine and New Hampshire and the Commonwealth of Massachusetts. The draft EA analyzes the potential environmental impacts of the site characterization and site assessment activities that are expected to take place if a commercial lease is issued. This notice of availability (NOA) announces the start of the public review and comment period, as well as the dates and times for public meetings on the draft EA. After BOEM holds the public meetings and addresses public comments submitted during the review period, BOEM will publish a final EA. The EA will inform BOEM's decision about whether it will issue commercial wind energy leases.

DATES: BOEM must receive your comments no later than July 22, 2024. BOEM's virtual public meetings will be held on the following dates and times (Eastern Time) indicated:

• Monday July 8, 2024; 1:00 p.m.

• Wednesday July 10, 2024; 5:00 p.m.

Registration for the virtual public meetings is required and may be completed at https://www.boem.gov/renewable-energy/state-activities/maine/gulf-maine. Meeting information will be sent to registrants via their email address provided during registration.

ADDRESSES: The draft EA and detailed information about proposed commercial leases can be found on BOEM's website at: https://www.boem.gov/renewable-energy/state-activities/maine/gulf-maine. Comments can be submitted in any of the following ways:

• Orally or in written form during any of the public meetings identified in this NOA.

• In written form by U.S. Postal Service or other delivery service: Send your comments and information to the following address: Bureau of Ocean Energy Management, Office of Renewable Energy Programs, 45600 Woodland Road, Mail Stop VAM-OREP, Sterling, VA 20166.

• Through the regulations.gov web portal: Navigate to http://www.regulations.gov and search for Docket No. BOEM-2024-0030. Click on the “Comment” button below the document link. Enter your information and comment, then click “Submit Comment”.

For more information about submitting comments, please see “Information on Submitting Comments” under the SUPPLEMENTARY INFORMATION heading below.

FOR FURTHER INFORMATION CONTACT: Brandi Sangunett, BOEM, Environment Branch for Renewable Energy, 45600 Woodland Road, Mail Stop VAM-OREP, Sterling, VA 20166, (703) 787-1015 or brandi.sangunett@boem.gov.

SUPPLEMENTARY INFORMATION:

Proposed Action: The draft EA analyzes the proposed action, which is the potential issuance of commercial wind energy leases in the Gulf of Maine offshore the States of Maine and New Hampshire and the Commonwealth of Massachusetts, and the no action alternative. The EA will consider project easements and grants for subsea cable corridors associated with leasing. The EA will also consider the potential environmental impacts associated with site characterization activities (i.e., biological, archaeological, geological, and geophysical surveys and core samples) and site assessment activities (i.e., installation of meteorological buoys) that are expected to take place following lease issuance. The EA's proposed action does not include the installation of meteorological towers because developers have expressed a preference for the use of meteorological buoys to collect data. In addition to the no-action alternative, other alternatives may be considered, such as exclusion of certain areas.

BOEM will use responses to this notice and the EA public input process to satisfy the public involvement requirements of the National Historic Preservation Act (NHPA), as provided in 36 CFR 800.2(d)(3). Specific to the NHPA, BOEM seeks information from the public on the identification and assessment of potential impacts to cultural resources and historic properties that might be impacted by possible wind energy-related leasing, site characterization, and site assessment activities in the final wind energy area (WEA) in the Gulf of Maine that BOEM identified in a memorandum, dated March 13, 2024, which is available on BOEM's website https://www.boem.gov/renewable-energy/state-activities/maine/gulf-maine.

BOEM will also use the analyses in the EA to support its compliance with other environmental statutes (e.g., Coastal Zone Management Act, Endangered Species Act, Magnuson-Stevens Fishery Conservation and Management Act, and Marine Mammal Protection Act).

Wind energy leases do not authorize any activities on the Outer Continental Shelf (OCS). Instead, leases grant lessees the exclusive right to submit plans for BOEM's consideration and approval. Prior to deciding whether to approve any plan for the construction and operation of commercial wind energy facilities, BOEM will prepare a plan-specific environmental analysis and will comply with all consultation requirements. Therefore, this EA will not consider the construction and operation of any commercial wind energy facilities in the final WEA.

BOEM has decided to prepare an EA for this proposed action in order to assist the agency's planning and decision-making (40 CFR 1501.5(b)).

Availability of the draft EA: The draft EA and associated information are available on BOEM's website at: https://www.boem.gov/renewable-energy/state-activities/maine/gulf-maine. If you require a digital copy on a flash drive or paper copy, BOEM will provide one upon request, if supplies are available. You may request a flash drive or paper copy of the draft EA by contacting Brandi Sangunett at (703) 787-1015 or brandi.sangunett@boem.gov.

Cooperating Agencies: The following four Federal agencies participated as cooperating agencies in the preparation of the draft EA: the Bureau of Safety and Environmental Enforcement, National Marine Fisheries Service, U.S. Army Corps of Engineers, and U.S. Coast Guard.

Information on Submitting Comments

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM discourages anonymous comments. Please include your name and address as part of your comment. You should be aware that your entire comment, including your name, address, and any other personally identifiable information (PII) that you include, may be made publicly available. All comments from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your comment is subject to FOIA. If your comment is requested under FOIA, BOEM will withhold your information only if it determines that one of FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

Authority: 42 U.S.C. 4231 et seq. (NEPA, as amended) and 40 CFR 1506.6.

Karen Baker,
Chief, Office of Renewable Energy Programs, Bureau of Ocean Energy Management.

[FR Doc. 2024-13687 Filed 6-20-24; 8:45 am]

BILLING CODE 4340-98-P